DEPARTMENT OF AGRICULTURE

Submission for OMB Review; Comment Request

October 23, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by November 29, 2013 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Unshu Oranges.

OMB Control Number: 0579-0173.

Summary of Collection: The Plant Protection Act (7 U.S.C. 7701-7772) authorizes the Secretary of Agriculture to restrict the importation, entry or interstate movement of plants, plant products, and other articles to prevent the introduction of plant pest in the United States or their dissemination within the United States. The regulations in “Subpart-Citrus Fruit” (7 CFR 319.28) allow the importation of unshu oranges from Kyushu Island and Honshu Island, Japan, into the United States under certain conditions. A certificate must accompany the unshu oranges from the Japanese plant protection service certifying that the fruit is apparently free of citrus canker.

Need and Use of the Information: The Animal and Plant Health Inspection (APHIS) will collect information using form PPQ 203, Foreign Site Certificate of Inspection and/or Treatment, PPQ 587, Application for Permit to Import Plants or Plant Products and box labeling. The information from the forms will be used to certify that unshu oranges from Japan are free of citrus canker. To ensure that the oranges from Kyushu Island are not imported into citrus-producing areas of the United States such as Florida and California, individuals boxes must be stamped or printed with a statement specifying the State into which the oranges may be imported and from which they are prohibited removal under a Federal quarantine. Failing to collect this information would cripple APHIS' ability to ensure that Unshu oranges from Japan are not carrying citrus canker.

Description of Respondents: Business or other for-profit; State, Local or Tribal Government.

Number of Respondents: 23.

Frequency of Responses: Reporting: On occasion.

Total Burden Hours: 5,535.

Ruth Brown,
Departmental Information Collection Clearance Officer.

[FR Doc. 2013-25371 Filed 10-29-13; 8:45 am]

BILLING CODE 3410-34-P